DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 73 FR 35140, dated June 20, 2008) is amended to reflect the reorganization of the Office of the Director, Centers for Disease Control and Prevention.

Section C-B, Organization and Functions, is hereby amended as follows: Delete in their entirety the titles and functional statements for the Office of Strategy and Innovation (CAM) and the Office of Chief of Public Health Practice (CAR) and insert the following:

Office of Strategy and Innovation (CAM). The Office of Strategy and Innovation (OSI) serves as the focal point for accelerating the health impact of CDC's work within and beyond CDC's programs. In carrying out its mission, OSI: (1) Leads CDC's efforts to develop, monitor, evaluate, and advance agency strategic direction, planning, and priorities; (2) fosters strategic excellence and innovation across the agency; (3) provides superior decision support to CDC's executive leadership; (4) leads the development of health in all policies; (5) promotes the health, safety, and quality of life of women; and (6) improves the health of the public through law.

Office of the Director (CAM1). (1) Develops, monitors, and advances CDC's strategic direction, planning, and priorities; (2) provides leadership and vision for formulating and evaluating policy; (3) fosters strategic excellence and innovation across the agency; (4) applies knowledge management tools and decision support systems in allocation of resources and improves agency decision-making; (5) communicates key messages to CDC employees and partners about CDC's strategic direction, planning, and priorities; and (6) works directly with the strategy and innovation officers within the coordinating centers to develop, monitor, and advance CDC strategic direction and priorities and institutionalize organizational change, improvement, and accountability.

Office of Women's Health (CAM12). The Office of Women's Health (OWH) aims to promote and improve the health, safety, and quality of life of women. As a leader for women's health issues at CDC, the Office of Women's Health: (1) Advises the CDC Director on matters relating to women's health research, programs, and strategies; (2) promotes the health and well-being of women; (3) communicates health information, research findings, and prevention strategies to a diverse group of providers, consumers, and organizations; (4) advances sound scientific knowledge for public health action, promotes the role of prevention, and works to improve the understanding of women's health priorities; (5) fosters partnerships and collaborations within CDC and with other public and private organizations, agencies, institutions, and others to improve the health and safety of women; (6) publishes newsletters and other documents that highlight prevention programs, research findings, publications, health campaigns, health promotion strategies, and other information available at CDC; (7) leads CDC Women's Health Committee by facilitating and coordinating agency-wide efforts and enhancing channels for communication and cooperation; (8) supports the development of future women's health and public health professionals through various training and student positions within the office; (9) prepares agency reports, briefing documents, and other materials addressing women's health issues; (10) stimulates and supports prevention research, programs, and other activities through funding; (11) represents the agencies at meetings, committees, workgroups, conferences, and briefings; (12) serves as liaison for women's health between CDC and other agencies and organizations; (13) develops opportunities for, promotes, and supports the agency as a resource for women's health issues; and (14) provides assistance to state and local programs on women's health issues.

Public Health Law Program (CAM13). The mission of the Public Health Law Program is to improve the health of the public through law. The program: (1) Provides technical assistance to CDC centers and to extramural partners in developing their legal preparedness to address the full spectrum of health protection goals; (2) collaborates with CDC and extramural partners in developing tools for use in assessing and improving the public health legal preparedness of the health system; (3) strengthens the competencies of practitioners in public health, emergency management, law, and other sectors to apply law to improve public health; (4) supports and conducts applied research in public health law and translates findings into practice; (5) provides consultation and analysis in public health law to CDC programs and extramural constituents; (6) establishes partnerships among CDC and other organizations active in public health law and assists in strengthening their public health law capacity and expertise; and (7) develops and disseminates authoritative information on public health law and public health law best practices to practitioners and policy makers.

Office of Chief of Public Health Practice (CAR). The Office of Chief of Public Health Practice (OCPHP) serves as the advocate, guardian, promoter, and conscience of public health practice throughout CDC and in the larger public health community; ensures coordination and synergy of CDC's scientific and practice activities; and promotes and protects the public's health through science-based, practice-relevant standards, policies, and legal tools. To carry out its mission, OCPHP: (1) Establishes robust partnerships among CDC programs, public health practitioners and key sectors, including elected officials, the legal community, and law enforcement and emergency response organizations; (2) establishes a functional area focused specifically on standards and improvement in practice among state and local public health systems; (3) advances the development and implementation of a national agency accreditation system; (4) relates relevant research and policy analysis to public health practice; (5) monitors and anticipates public health practice trends and issues; and (6) coordinates and addresses cross-cutting issues related to public health practice within CDC; and (7) develops, monitors and advances agency-wide goals for improving health equity, fostering strategic excellence and innovation across CDC, and organizational development and the transition process.

Dated: July 31, 2008.
William H. Gimson,
Chief Operating Officer, Centers for Disease Control and Prevention.

[FR Doc. E8-18177 Filed 8-7-08; 8:45 am]

BILLING CODE 4160-18-M